DEPARTMENT OF THE INTERIOR

Fish and Wildlife Service

[FWS-HQ-FAC-2022-N012; FF09F42300 FVWF97920900000 XXX]

Sport Fishing and Boating Partnership Council; Public Teleconference/Web Meeting

AGENCY: Fish and Wildlife Service, Interior.

ACTION: Notice of teleconference/web meeting.

SUMMARY: The U.S. Fish and Wildlife Service is announcing a public teleconference/web meeting of the Sport Fishing and Boating Partnership Council (Council), in accordance with the Federal Advisory Committee Act.

DATES:

Teleconference/Web Meeting: The Council will meet via teleconference and broadcast over the internet on Wednesday, March 23, 2022, from 12 p.m. to 4 p.m. Eastern Time, and Thursday, March 24, 2022, from 12 p.m. to 3 p.m. Eastern Time. The meeting is open to the public.

Registration: Registration is required. The deadline for registration is March 21, 2022.

Accessibility: The deadline for accessibility accommodation requests is March 18, 2022. Please see Accessibility Information under SUPPLEMENTARY INFORMATION.

ADDRESSES: The meeting will be held via teleconference and broadcast over the internet. To register and receive the web address and telephone number for participation, contact the Designated Federal Officer (see FOR FURTHER INFORMATION CONTACT).

FOR FURTHER INFORMATION CONTACT: Tom McCann, Designated Federal Officer, by email at thomas_mccann@fws.gov, or by telephone at 703-358-2056. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Established in 1993, the Sport Fishing and Boating Partnership Council (Council) advises the Secretary of the Interior, through the Director of the U.S. Fish and Wildlife Service, on aquatic conservation endeavors that benefit recreational fishery resources and recreational boating, and that encourage partnerships among industry, the public, and government.

Meeting Agenda

• Program updates

○ National Outreach and Communications Program

○ Council Subcommittees

○ U.S. Fish and Wildlife Service Fish and Aquatic Conservation

○ Recreational Boating and Fishing Foundation

○ National Oceanic and Atmospheric Administration

• Other Council business

○ Infrastructure Investment and Jobs Act

○ Agenda items and schedule for next meeting

○ Action items

• Public comment and adjournment

The final agenda and other meeting information will be posted on the Council's website at https://www.fws.gov/sfbpc/.

Public Input

If you wish to listen to the meeting by telephone, listen and view through the internet, provide oral public comment by phone, or provide a written comment for the Council to consider, contact the Designated Federal Officer (see FOR FURTHER INFORMATION CONTACT). Written comments should be received no later than Monday, March 21, 2022, to be considered by the Council during the meeting.

Depending on the number of people who want to comment and the time available, the amount of time for individual oral comments may be limited. Interested parties should contact the Designated Federal Officer, in writing (see FOR FURTHER INFORMATION CONTACT), for placement on the public speaker list for this teleconference. Registered speakers who wish to expand upon their oral statements, or those who had wished to speak but could not be accommodated on the agenda, may submit written statements to the Designated Federal Officer up to 30 days following the meeting. Requests to address the Council during the teleconference will be accommodated in the order the requests are received.

Accessibility Information

Requests for sign language interpretation services, closed captioning, or other accessibility accommodations should be directed to the Designated Federal Officer (see FOR FURTHER INFORMATION CONTACT) by close of business Friday, March 18, 2022.

Public Disclosure

Before including your address, phone number, email address, or other personal identifying information in your comment, you should be aware that your entire comment—including your personal identifying information—may be made publicly available at any time. While you can ask us in your comment to withhold your personal identifying information from public review, we cannot guarantee that we will be able to do so.

Authority

Federal Advisory Committee Act (5 U.S.C. Appendix).

David Miko,
Deputy Assistant Director, Fish and Aquatic Conservation Program, U.S. Fish and Wildlife Service.

[FR Doc. 2022-04239 Filed 2-28-22; 8:45 am]

BILLING CODE 4333-15-P